DEPARTMENT OF JUSTICE

Notice of Proposed Settlement Agreement Under the Comprehensive Environmental Response, Compensation, and Liability Act

On December 4, 2023, a proposed Settlement Agreement between the United States, on behalf of (a) the United States Department of the Interior (“DOI”) and (b) the United States Environmental Protection Agency (“EPA”), and Mallinckrodt plc, and the Mallinckrodt General Unsecured Claims Trust (the “GUC Trust” and, with the Reorganized Debtors, collectively, “Mallinckrodt”), was filed with the United States Bankruptcy Court for the District of Delaware in the Chapter 11 case captioned, In re: Mallinckrodt PLC, Case No.: 20-12522.

On October 12, 2020, each of Mallinckrodt plc and its debtor affiliates filed voluntary petitions in the Bankruptcy Court. The United States, on behalf of DOI and EPA, filed a proof of claim asserting a claim against Mallinckrodt for past costs and future liability as a potential liable party at the Sangamo Electric Dump/Crab Orchard National Wildlife Refuge Site pursuant to the Comprehensive Environmental Response Comprehensive Environmental Response, Compensation, and Liability Act. The proposed Settlement Agreement grants the United States an allowed unsecured claim against Mallinckrodt US Holdings LLC on behalf of DOI in the amount of $56,880,784, and for EPA in the amount of $499,216. Mallinckrodt's Fourth Amended Joint Plan of Reorganization, which the Bankruptcy Court confirmed, and which went effective on Jun 16, 2022, dictate the terms of payment for the United States' allowed claim.

The publication of this notice opens a period for public comment on the proposed Settlement Agreement. Comments should be addressed to the Assistant Attorney General, Environment and Natural Resources Division, and should refer to, In re: Mallinckrodt PLC, Case No.: 20-12522, D.J. Ref. No. 90-11-2-09556/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Settlement Agreement may be examined and downloaded at this Justice Department website: http://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.75 (25 cents per page reproduction cost) payable to the United States Treasury.

Patricia M. McKenna,
Assistant Section Chief, Environmental Enforcement Section, Environment and Natural Resources Division.

[FR Doc. 2023-27361 Filed 12-12-23; 8:45 am]

BILLING CODE P